FEDERAL COMMUNICATIONS COMMISSION

47 CFR Part 73

[MB Docket No. 13-284; RM-11704; DA 14-1058]

Radio Broadcasting Services; Evart and Ludington, Michigan

AGENCY: Federal Communications Commission.

ACTION: Final rule.

SUMMARY: The Audio Division, at the request of Synergy Lakeshore Licenses, LLC, deletes vacant Channel 274A at Evart and modifies WGHN, Inc.'s construction permit from Channel 249A to Channel 242A at Ludington. We also modify Stations WMOM(FM), Pentwater, Michigan from Channel 242A to Channel 274A and WMLQ(FM), Manistee, Michigan from Channel 282A to Channel 249A. The Media Bureau's Consolidated Data Base System (CDBS) will reflect the reserved channel assignments for Station WMOM(FM) and Station WMLQ(FM). See Supplementary Information.

DATES: Effective September 8, 2014.

ADDRESSES: Secretary, Federal Communications Commission, 445 12th Street, SW., Washington, DC 20554.

FOR FURTHER INFORMATION CONTACT: Rolanda F. Smith, Media Bureau, (202) 418-2700.

SUPPLEMENTARY INFORMATION: This is a synopsis of the Commission's Report and Order, adopted July 24, 2014, and released July 25, 2014. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. The Commission will send a copy of this Report and Order in a report to be sent to Congress and the Government Accountability Office pursuant to the Congressional Review Act, see 5 U.S.C. 801(a)(1)(A).

In regards to the reimbursement issue, we disagree with WGHN, Inc. and Synergy Lakeshore Licenses, LLC that Roy Henderson should be required to reimburse the parties although he was the original Petitioner of the Evart allotment because Henderson was not the ultimate permittee of Channel 274A at Evart, Michigan. Although Bay View Broadcasting Inc. has filed a construction permit for Channel 242A at Pentwater, it states that Station WMOM(FM) still operates on its original Channel 274A at Pentwater. Additionally, Synergy Lakeshore Licenses, LLC, licensee of Station WMLQ(FM) has not filed an application for Channel 282A at Manistee, Michigan, but the station still operates on its original Channel 249A. Therefore, since we delete Channel 274A at Evart and return Stations WMLQ(FM) and WMOM(FM) to their original channels, we find that no party is responsible for reimbursement expenses. In regards to the Ludington allotment, WGHN, Inc. has voluntarily consented to the channel change, so we conclude that no party is required to reimburse WGHN, Inc. for the costs of filing an application to specify Channel 242A at Ludington.

List of Subjects in 47 CFR Part 73

Radio, Radio broadcasting.

Federal Communications Commission.
Nazifa Sawez,
Assistant Chief, Audio Division, Media Bureau.

For the reasons discussed in the preamble, the Federal Communications Commission amends 47 CFR Part 73 as follows:

PART 73—RADIO BROADCAST SERVICES

1. The authority citation for part 73 continues to read as follows:

Authority: 47 U.S.C. 154, 303, 334, 336 and 339.

§ 73.202 [Amended]

2. Section 73.202(b), the Table of FM Allotments under Michigan, is amended by removing Evart, Channel 274A, Channel 249A at Ludington, and by adding Channel 242A at Ludington.

[FR Doc. 2014-19402 Filed 8-14-14; 8:45 am]

BILLING CODE 6712-01-P